NATIONAL AERONAUTICS AND SPACE ADMINISTRATION

[Notice: 25-027]

Phase 2 of the LunaRecycle Challenge

AGENCY: National Aeronautics and Space Administration (NASA).

ACTION: Notice.

SUMMARY: The National Aeronautics and Space Administration (NASA) is announcing Phase 2 of the LunaRecycle Challenge. Teams that wish to compete in this public prize competition may now register.

DATES: Phase 2 registration opens August 11, 2025, and will remain open until January 22, 2026 (4 p.m. Eastern). No further requests for registration will be accepted after this timeframe. Other important dates, including deadlines for key deliverables from the Teams, are listed on the Challenge website: https://lunarecycle.ua.edu/.

ADDRESSES: To register for or get additional information regarding the LunaRecycle Challenge, please visit: https://lunarecycle.ua.edu/. Competitors in the LunaRecycle Challenge Phase 2 will develop solutions and submit from their own location.

FOR FURTHER INFORMATION CONTACT: Jennifer Edmunson, jennifer.e.edmunson@nasa.gov, 256-544-0721.

General questions and comments regarding the program should be addressed to the Centennial Challenges Program, NASA Marshall Space Flight Center, Huntsville, AL 35812. Email: hq-stmd-centennialchallenges@mail.nasa.gov. Phone: 256-544-1265.

SUPPLEMENTARY INFORMATION: NASA seeks to stimulate research and technology solutions to support future missions and inspire new national aerospace capabilities through public prize competitions called Centennial Challenges. The LunaRecycle Challenge is one such competition. Centennial Challenges are managed at NASA's Marshall Space Flight Center and are part of the Prizes, Challenges, and Crowdsourcing program within NASA's Space Technology Mission Directorate (STMD).

The LunaRecycle Challenge is a prize competition with a total prize purse of up to $3,000,000 USD. In Phase 2, NASA will award up to $2,000,000 USD in prizes for development and demonstration of hardware-based recycling systems, with optional digital twin models. All teams must submit a Prototype Solution. Teams may also submit a Digital Twin Solution as part of their entry.

NASA is providing the prize purse for U.S. Teams, and the University of Alabama will administer the challenge on behalf of NASA.

I. Prize Amounts: The total prize purse for Phase 2 is up to $2,000,000 USD. Prize distribution is detailed in the Official Rules.

II. Eligibility To Participate and Win Prize Money: To be eligible to win a prize, competitors must register and comply with all requirements in the Official Rules. Only U.S. teams are eligible to compete in Phase 2. Interested teams should refer to the Official Challenge website for full details on eligibility and registration.

III. Official Rules: The complete rules for the LunaRecycle Challenge can be found at: https://lunarecycle.ua.edu/.

IV. Further Information: For general information on NASA Centennial Challenges, please visit: https://www.nasa.gov/prizes-challenges-and-crowdsourcing/centennial-challenges.

For general information on NASA prize competitions, challenges, and crowdsourcing opportunities, please visit: https://www.nasa.gov/prizes-challenges-and-crowdsourcing.

Authority: 51 U.S.C. 20144.

Nanette Smith,
NASA Federal Liaison Officer.

[FR Doc. 2025-15165 Filed 8-8-25; 8:45 am]

BILLING CODE 7510-13-P